DEPARTMENT OF TRANSPORTATION

Federal Aviation Administration

Notice of Opportunity for Public Comment on Surplus Property Release at the Myrtle Beach International Airport, Myrtle Beach, SC

AGENCY: Federal Aviation Administration (FAA), DOT.

ACTION: Notice.

SUMMARY: Under the provisions of Title 49, U.S.C. Section 47153(c), notice is being given that the FAA is considering a request from Horry County to waive the requirement that approximately 33—acres of surplus property, located at the Myrtle Beach International Airport, be used for aeronautical purposes.

DATES: Comments must be received on or before February 9, 2007.

ADDRESSES: Comments on this notice may be mailed or delivered in triplicate to the FAA at the following address: Atlanta Airports District Office, Attn; Parks Preston, Program Manager, 1701 Columbia Ave., Suite 2-260, Atlanta, GA 30337-2747.

In addition, one copy of any comments submitted to the FAA must be mailed or delivered to Robert J. Kemp, Director of Airports, at the following address: Myrtle Beach International Airport, 1100 Jetport Road, Myrtle Beach, SC 29577.

FOR FURTHER INFORMATION CONTACT: Parks Preston, Program Manager, Atlanta Airports District Office, 1701 Columbia Ave., Suite 2-260, Atlanta, GA 30337-2747, (404) 305-7149. The application may be reviewed in person at the same location.

SUPPLEMENTARY INFORMATION: The FAA is reviewing a request by Horry County to release approximately 33 acres of surplus property at the Myrtle Beach International Airport. The property is located from approximately 0.60 miles west of US Route 501 to approximately 1.17 miles east of SC Route 707/from Harrelson Boulevard to George Bishop Parkway on Fantasy Harbor Interchange at US. 17/Fantasy Harbor Bridge over the Intracostal Waterway. This property is currently shown on the approved Airport Layout Plan as aeronautical use land; however the property is currently not being used for aeronautical purposes and the proposed use of this property is compatible with airport operations. The land will ultimately be used by the South Carolina Department of Transportation for the construction of the Fantasy Harbor Interchange, which will result in an additional access route across the Intracostal Waterway to the airport.

Any person may inspect the request in person at the FAA office listed above under FOR FURTHER INFORMATION CONTACT. In addition, any person may, upon request, inspect the request, notice and other documents germane to the request in person at the Myrtle Beach International Airport.

Issued in Atlanta, Georgia, on December 20, 2006.
Scott L. Seritt,
Manager, Atlanta Airports District Office, Southern Region.

[FR Doc. 07-35 Filed 1-9-07; 8:45 am]

BILLING CODE 4910-13-M